DEPARTMENT OF AGRICULTURE

Farm Service Agency

Public Meetings of Advisory Committee on Beginning Farmers and Ranchers

AGENCY: Farm Service Agency, USDA.

ACTION: Notice of public meetings.

SUMMARY: The Farm Service Agency (FSA) is issuing this notice to advise the public that meetings of the Advisory Committee on Beginning Farmers and Ranchers (Committee) will be held to discuss ways to increase new farming and ranching opportunities for these producers, including the review of proposals and recommendations drafted at previous meetings.

DATES: The public meetings will be held April 11-12, 2000, from 8:30 a.m. to 5 p.m. at the Westin Crown Center Hotel, 1 Pershing Road, Kansas City, Missouri (telephone (816) 474-4400). All times noted are Central Standard Time (CST).

ADDRESSES: Mark Falcone, Designated Federal Official for the Advisory Committee on Beginning Farmers and Ranchers, Farm Service Agency, U.S. Department of Agriculture, 1400 Independence Avenue, SW., Room 5438-S, STOP 0522, Washington, DC 20250-0522; telephone (202) 720-1632; FAX (202) 690-1117; e-mail mark_falcone@wdc.fsa.usda.gov.

FOR FURTHER INFORMATION CONTACT: Mark Falcone at (202) 720-1632.

SUPPLEMENTARY INFORMATION: Section 5 of the Agricultural Credit Improvement Act of 1992 (Pub. L. 102-554) required the Secretary of Agriculture to establish the Committee for the purpose of advising the Secretary on the following: (1) The development of a program of coordinated financial assistance to qualified beginning farmers and ranchers required by section 309 (i) of the Consolidated Farm and Rural Development Act (Federal and State beginning farmer programs provide joint financing to beginning farmers and ranchers); (2) methods of maximizing the number of new farming and ranching opportunities created through the program; (3) methods of encouraging States to participate in the program; (4) the administration of the program; and (5) other methods of creating new farming or ranching opportunities.

Departmental Regulation 1042-119 dated November 25, 1998, formally established the Committee and designated FSA to provide support. The Committee is comprised of 16 members appointed by the Secretary. Members represent the following groups: (1) FSA; (2) State beginning farmer programs; (3) commercial lenders; (4) private nonprofit organizations with active beginning farmer programs; (5) the Cooperative State Research, Education, and Extension Service; (6) educational institutions with demonstrated experience in training beginning farmers or ranchers; (7) other entities providing lending or technical assistance to qualified beginning farmers or ranchers; and (8) farmers and ranchers. The Committee meets at least once a year and all meetings are open to the public. The duration of the Committee is indefinite.

The initial meetings of the Committee, held August 31-September 2, 1999, provided an opportunity for members to exchange ideas on ways to increase opportunities for beginning farmers and ranchers through Federal-State partnerships and to encourage more State participation. Members discussed various issues and drafted numerous recommendations, six of which the Committee determined were priorities and were submitted to the Secretary in writing. During the April meetings, members will discuss the Secretary's response to the six recommendations and review other draft proposals. Guest speakers from the Iowa State University's Beginning Farmer Center and the National Council of State Agricultural Finance Programs will address relevant issues.

Attendance is open to all interested persons but limited to space available. Anyone wishing to make an oral statement should submit their request in writing (letter, fax, or e-mail) to Mark Falcone at the above address. Statements should be received no later than April 6, 2000. Requests should include the name and affiliation of the individual who will make the presentation and an outline of the issues to be addressed. The floor will be open to oral presentations beginning at 1:00 p.m. CST on April 11, 2000. Comments will be limited to 5 minutes, and presenters will be approved on a first-come, first-served basis.

Persons with disabilities who require special accommodations to attend or participate in the meetings should contact Mark Falcone by April 6, 2000.

Signed in Washington, DC, on March 17, 2000.
Keith Kelly,
Administrator, Farm Service Agency.

[FR Doc. 00-7278 Filed 3-23-00; 8:45 am]

BILLING CODE 3410-05-P